DEPARTMENT OF HEALTH AND HUMAN SERVICES

Health Resources and Services Administration

Agency Information Collection Activities: Proposed Collection: Comment Request

In compliance with the requirement for opportunity for public comment on proposed data collection projects (44 U.S.C. 3506(c)(2)(A)), the Health Resources and Services Administration (HRSA) publishes periodic summaries of proposed projects being developed for submission to the Office of Management and Budget (OMB) under the Paperwork Reduction Act of 1995. To request more information on the proposed project or to obtain a copy of the data collection plans and draft instruments, call the HRSA Reports Clearance Officer on (301) 443-1129.

Comments are invited on: (a) The proposed collection of information is necessary for the proper performance of the functions of the agency; including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Assessment of the Bioterrorism Training and Curriculum Development Program Performance—NEW

The goal of the Bioterrorism Training and Curriculum Development Program (BTCDP) is the development of a competent healthcare workforce with the knowledge, skills, and abilities to: (1) Recognize indications of a terrorist event; (2) meet the acute care needs of patients, including pediatric and other vulnerable populations, in a safe and appropriate manner; (3) participate in a local, regional, statewide, and national response, and (4) rapidly and effectively alert the public health system of such an event at the community, state, and national levels. Response issues include other forms of terrorism (e.g., the use of chemical, explosive, and incendiary agents, acute radiation exposure in a nuclear explosion), natural disasters, and catastrophic events.

HRSA will collect data relevant to the preparedness training of healthcare providers from existing BTCDP awardees to evaluate and report performance and outcome information. This information will be used by the U.S. Department of Health and Human Services (HHS) to evaluate the effectiveness and outcomes of the BTCDP. HRSA will use standard data collection forms to record the number of healthcare providers trained by profession and by course category, qualitative information on progress being achieved on approved objectives within the cooperative agreement, and performance outcomes of healthcare providers participating in training. The data collection forms do not duplicate other data collection efforts.

The BTCDP is the only Federal program solely committed to the preparedness training of healthcare providers. As such, BTCDP awardees share curriculum, accomplishments, and lessons learned through an established network on a regular basis, a network vital to the development of a prepared healthcare workforce. Awardees stand uniquely prepared to respond to Congressional demand for efficient and effective training within the fiscal and time constraints of this program. Collecting data from awardees regarding their performance is the first step in meeting this demand.

The estimated annual burden is as follows:

Submission type | Number of respondents | Responses per respondent | Total number of responses | Hours per response | Total burden hours
Performance and Outcome Data | 32 | 1 | 32 | 16 | 512

Send comments to Susan G. Queen, PhD, HRSA Reports Clearance Officer, Room 10-33, Parklawn Building, 5600 Fishers Lane, Rockville, MD 20857. Written comments should be received within 60 days of this notice.

Dated: November 3, 2006.
Cheryl R. Dammons,
Director, Division of Policy Review and Coordination.

[FR Doc. E6-19087 Filed 11-9-06; 8:45 am]

BILLING CODE 4165-15-P